ENVIRONMENTAL PROTECTION AGENCY

[CERCLA-10-2022-0251; FRL-10531-01-Region 10]

Notice of Proposed Administrative Settlement Agreement for Recovery of Past Response Costs at the Logan Street Mercury Response Site in Ada County, Idaho

AGENCY: Environmental Protection Agency (EPA).

ACTION: Notice of proposed settlement; request for public comment.

SUMMARY: In accordance with the Comprehensive Environmental Response, Compensation, and Liability Act of 1980, as amended (CERCLA), notice is hereby given that the Environmental Protection Agency (EPA) has entered into a proposed settlement, embodied in an Administrative Settlement Agreement for Recovery of Past Response Costs (Settlement Agreement), with the following settling party: Jones Family Trust. Under the Settlement Agreement, the settling party agrees to pay a total of $150,000 plus interest to reimburse the EPA for costs the EPA has incurred at the Logan Street Mercury Response Site (Site).

DATES: Comments must be received on or before March 2, 2023.

ADDRESSES: You may send comments, identified by the EPA Docket Number for the Settlement Agreement, CERCLA-10-2022-0251, by any of the following methods: Federal eRulemaking Portal: https://www.regulations.gov (our preferred method). Follow the online instructions for submitting comments. Email: Ms. Christina Vieira da Rosa, VieiraDaRosa.Christina@epa.gov. Mail: EPA Region 10, ATTN: Christina Vieira da Rosa, Assistant Regional Counsel, Office of Regional Counsel, 1200 Sixth Avenue, Suite 155, M/S: 11-C07, Seattle, WA 98101.

FOR FURTHER INFORMATION CONTACT: Christina Vieira da Rosa, Assistant Regional Counsel, EPA Region 10, 1200 Sixth Avenue, Suite 155, M/S: 11-C07, Seattle, WA 98101; Email: VieiraDaRosa.Christina@epa.gov; Phone (206) 553-2601.

SUPPLEMENTARY INFORMATION:

Written Comments

Submit your comments, identified by the EPA Docket Number for the Settlement Agreement, CERCLA-10-2022-0251, at https://www.regulations.gov (our preferred method), or the other methods identified in the ADDRESSES section. Once submitted, comments cannot be edited or removed from the docket. The EPA may publish any comment received to its public docket. Do not submit electronically any information you consider to be Confidential Business Information or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about Confidential Business Information or multimedia submissions, and general guidance on making effective comments, please visit https://www.epa.gov/dockets/commenting-epa-dockets.

Background Information

Notice of this proposed Settlement Agreement is made in accordance with Section 122(i) of CERCLA, 42 U.S.C. 9622(i). The Settlement Agreement concerns costs incurred by the EPA in connection with the Logan Street Mercury Response Site, a CERCLA response action in Ada County, Idaho, where mercury contamination has come to be located. Jones Family Trust, which agrees to pay the EPA a total of $150,000, plus interest, is the only party to the Settlement Agreement. Because the EPA is not recovering one hundred percent of its past costs, this Settlement Agreement represents a compromise of the EPA's costs. The settlement includes a covenant not to sue the settling party pursuant to Sections 106 and 107(a) of CERCLA, 42 U.S.C 9606 and 9607(a).

The EPA will consider all comments received on the Settlement Agreement in accordance with the DATES and ADDRESSES sections of this Notice and may modify or withdraw its consent to the Settlement Agreement if comments received disclose facts or considerations that indicate that the settlement is inappropriate, improper, or inadequate. The EPA's response to any comments received will be available for public inspection at: https://semspub.epa.gov/src/collections/10/AR/IDN001020504.

Authority: 42 U.S.C. 9601-9657.

Sheila Fleming,
Acting Director, Superfund and Emergency Management Division, Region 10.

[FR Doc. 2023-01974 Filed 1-30-23; 8:45 am]

BILLING CODE 6560-50-P